SECURITIES AND EXCHANGE COMMISSION

[Release Nos. 33-10079; 34-77857; File No. 265-28]

Investor Advisory Committee Meeting

AGENCY: Securities and Exchange Commission.

ACTION: Notice of telephonic meeting of Securities and Exchange Commission Dodd-Frank Investor Advisory Committee.

SUMMARY: The Securities and Exchange Commission Investor Advisory Committee, established pursuant to Section 911 of the Dodd-Frank Wall Street Reform and Consumer Protection Act of 2010, is providing notice that it will hold a telephonic meeting on Tuesday, June 7, 2016. The meeting will begin at 11:00 a.m. (ET) and conclude at 12:30 p.m. and will be open to the public via telephone at 1-888-240-3210, participant code 7250901. The public is invited to submit written statements to the Committee.

DATES: Written statements should be received on or before June 7, 2016.

ADDRESSES: Written statements may be submitted by any of the following methods:

Electronic Statements

Use the Commission's Internet submission form (http://www.sec.gov/rules/other.shtml); or

Send an email message to rules-comments@sec.gov. Please include File No. 265-28 on the subject line; or

Paper Statements

Send paper statements to Brent J. Fields, Secretary, Securities and Exchange Commission, 100 F Street, NE., Washington, DC 20549-1090.

All submissions should refer to File No. 265-28. This file number should be included on the subject line if email is used. To help us process and review your statement more efficiently, please use only one method.

Statements also will be available for Web site viewing and printing in the Commission's Public Reference Room, 100 F Street NE., Room 1580, Washington, DC 20549, on official business days between the hours of 10:00 a.m. and 3:00 p.m. All statements received will be posted without change; we do not edit personal identifying information from submissions. You should submit only information that you wish to make available publicly.

FOR FURTHER INFORMATION CONTACT: Marc Oorloff Sharma, Senior Special Counsel, Office of the Investor Advocate, at (202) 551-3302, Securities and Exchange Commission, 100 F Street NE., Washington, DC 20549.

SUPPLEMENTARY INFORMATION: The meeting will be open to the public via telephone. Persons needing special accommodations to take part because of a disability should notify the contact person listed in FOR FURTHER INFORMATION CONTACT.

The agenda for the meeting includes: A discussion of Market Structure subcommittee recommendations to enhance information for bond market investors; and a discussion regarding the Commission's concept release on business and financial disclosure required by Regulation S-K (which may include a recommendation of the Investor as Owner subcommittee).

Dated: May 19, 2016.
Brent J. Fields,
Secretary.

[FR Doc. 2016-12231 Filed 5-25-16; 8:45 am]

BILLING CODE 8011-01-P